GENERAL SERVICES ADMINISTRATION

[Notice-WWICC-2021-01; Docket No. 2021-0003; Sequence No. 1]

World War One Centennial Commission; Notification of Upcoming Public Advisory Meeting; Correction

AGENCY: World War One Centennial Commission; General Services Administration.

ACTION: Notice; correction.

SUMMARY: GSA published a notice in the Federal Register of Friday, May 28, 2021, announcing a meeting of an upcoming public advisory meeting. The notice contained an incorrect date. This notice corrects that date.

FOR FURTHER INFORMATION CONTACT: Daniel S. Dayton, Designated Federal Officer, World War 1 Centennial Commission, 701 Pennsylvania Avenue NW, 123, Washington, DC 20004-2608, at 202-380-0725 (Note: This is not a toll-free number).

Correction

In the Federal Register of Friday, May 28, 2021, in FR Doc. 2021-11312, on page 28833, second column, correct the DATES section by removing Wednesday, June 23, 2021 and adding Wednesday, July 14, 2021 in its place.

David Coscia,
Agency Liaison Officer, Office of Presidential & Congressional Agency Liaison Services, General Services Administration.

[FR Doc. 2021-12308 Filed 6-10-21; 8:45 am]

BILLING CODE 6820-95-P